ADVISORY COUNCIL ON HISTORIC PRESERVATION

Notice of Meeting

AGENCY: Advisory Council on Historic Preservation.

SUMMARY: Notice is hereby given that the Advisory Council on Historic Preservation (ACHP) will meet on Friday, August 17, 2007. The meeting will be held in Room MR-1 at the Vicksburg, MS at 9 a.m.

The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native American; and eight non-Federal members appointed by the President.

The agenda for the meeting includes the following:

Call to Order—9 a.m.

I. Chairman's Welcome.

II. Preservation Awards Presentation.

III. Report of the Native American Advisory Group.

IV. Implementation of ACHP Recommendations from the Preserve America Summit.

A. Implementation Strategy and Actions.

B. Preserve America/Save America's Treasures Authorizing Legislation.

V. Gulf Coast Recovery Efforts of the Mississippi, Louisiana, and Alabama State Historic Preservation Offices.

VI. Preservation Initiatives Committee.

A. Legislative Update.

B. Preserve America and the National Park Service Centennial Challenge.

VII. Federal Agency Programs Committee.

A. Alternate Procedures of Corps of Engineers' Appendix C.

B. Guidelines for Agency Preparation of Section 3 Reports.

C. Tribal Notification Process for Regional and National Section 106 Initiatives.

D. National Park Service Battlefield Landscape Restoration Initiative.

VIII. Communications, Education, and Outreach Committee.

A. 2008 Preserve America Presidential Award Nominations.

B. Media and Communications Outreach.

IX. Chairman's Report.

A. ACHP Alumni Foundation.

B. ACHP FY 2009 Budget Request.

X. Executive Director's Report.

XI. New Business.

XII. Adjourn.

Note: The meetings of the ACHP are open to the public. If you need special accommodations due to disability, please contact the Advisory Council on Historic Preservation, 1100 Pennsylvania Avenue, NW., Room 803, Washington, DC, 202-606-8503, at least seven (7) days prior to the meeting.

FOR FURTHER INFORMATION: Additional information concerning the meeting is available from the Executive Director, Advisory Council on Historic Preservation, 1100 Pennsylvania Avenue, NW., #803, Washington, DC 20004.

Dated: August 5, 2007.
John Fowler,
Executive Director.

[FR Doc. 07-3897 Filed 8-9-07; 8:45 am]

BILLING CODE 4310-K6-M